PRESIDIO TRUST

Notice of Receipt of and Availability for Public Comment on an Application for Wireless Telecommunications Facilities Site; The Presidio of San Francisco, California

AGENCY: The Presidio Trust.

ACTION: Public notice.

SUMMARY: This notice announces the Presidio Trust's receipt of and availability for public comment on an application from GTE Mobilnet of California d/b/a Verizon Wireless for installation of a wireless telecommunications facilities site (“Project”) in The Presidio of San Francisco. The proposed location of the Project is in the vicinity of 386 Moraga Avenue.

The Project involves (i) installing a new 70-foot monopole to accommodate nine panel antenna panels, and (ii) placing the associated radio equipment on a concrete pad within a 20-foot by 20-foot fenced area. Power and telecommunications service will be brought to the site by underground trench.

Comments: Comments on the proposed project must be sent to Steve Carp, Presidio Trust, 103 Montgomery Street, P.O. Box 29052, San Francisco, CA 94129-0052, and be received by December 11, 2018. A copy of Verizon's application is available upon request to the Presidio Trust.

FOR FURTHER INFORMATION CONTACT: Steve Carp, 103 Montgomery Street, P.O. Box 29052, San Francisco, CA 94129-0052. Email: scarp@presidiotrust.gov. Telephone: 415.561.5300.

Dated: November 5, 2018.
Steve Carp,
Legal Analyst.

[FR Doc. 2018-24698 Filed 11-9-18; 8:45 am]

BILLING CODE 4310-4R-P